DEPARTMENT OF COMMERCE

National Oceanic and Atmospheric Administration

Agency Information Collection Activities; Submission to the Office of Management and Budget (OMB) for Review and Approval; Comment Request; Sea Grant Program Application Requirements for Grants, for Sea Grant Fellowships, Including the Dean John A. Knauss Marine Policy Fellowships, and for Designation as a Sea Grant College or Sea Grant Institution

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 28, 2020, during a 60-day comment period. This notice allows for an additional 30 days for public comments.

Agency: National Oceanic & Atmospheric Administration, Commerce.

Title: Sea Grant Program Application Requirements for Grants, for Sea Grant Fellowships, including the Dean John A. Knauss Marine Policy Fellowships, and for Designation as a Sea Grant College or Sea Grant Institution.

OMB Control Number: 0648-0362.

Form Number(s): NOAA Forms 90-1; 90-2; 90-4.

Type of Request: Regular submission. Revision and extension of a current information collection.

Number of Respondents: 114.

Average Hours per Response: Form 90-1—30 minutes; Form 90-2 (Excel)—20 minutes, (Webform)—15 minutes; Form 90-4—15 minutes; Application for Designation as a Sea Grant College or Regional Consortia—20 hours; Application for Sea Grant Fellowship—2 hours.

Total Annual Burden Hours: 783.

Needs and Uses: This request is for the extension, with minor proposed revisions, of a currently approved information collection. The objectives of the National Sea Grant College Program, as stated in the Sea Grant legislation (33 U.S.C. 1121 § et seq.) are to increase the understanding, assessments, development, utilization, and conservation of the Nation's ocean, coastal, and Great Lakes resources. It accomplishes these objectives by conducting research, education, and outreach programs. Grant monies are available for funding activities that help obtain the objectives of the Sea Grant Program. Both single and multi-project grants are awarded, with the latter representing approximately 80 percent of the total grant program. In addition to other standard grant application requirements, three forms are required with the grants. The Sea Grant Control Form (NOAA Form 90-1) is used to identify the organizations and personnel who would be involved in the grant and briefly summarize the proposed activities under the grant. The Project Record Form (NOAA Form 90-2), which collects summary data on projects, helps the National Sea Grant Office (NSGO) evaluate the proposals during its funding decisions. The Sea Grant Budget Form (NOAA Form 90-4) provides information similar to, but more detailed than, standardized budget forms SF-424A or SF-424C, and allows the NSGO to determine whether or not the breakdown cost of multi-project grant awards is reasonable. Collectively, the data supplied in these documents form the basis for many of NSGO's responses to the Administration, the Congress, other agencies, and to the public about the scope of Sea Grant activities.

The National Sea Grant College Program Act (33 U.S.C. 1126) also provides for the designation of a public or private institution of higher education, institute, laboratory, or State or local agency as a Sea Grant college or Sea Grant institute. Applications are required for designation of Sea Grant Colleges and Sea Grant Institutes, although no forms are required. The data the collection provides helps the National Sea Grant Office determine the suitability of the applicant for meeting the standards and conditions for being a Sea Grant College as set forth in 33 U.S.C. 1126 and 15 CFR 918.5.

The NSGO proposes two revisions to this information collection. The NOAA Form 90-2 is currently collected using an Excel spreadsheet (100% of use cases). The NSGO intends to migrate the Excel spreadsheet to an online webform that is hosted on Sea Grant's Planning, Implementation and Evaluation Resource (PIER) database. The online webform would provide an additional and alternative method of information collection, but not eliminate the option for an Excel-based collection. During implementation (testing Q2/3-FY21; rollout Q4-FY21), the webform will likely require cosmetic modifications on the form structure, but no additional data fields will be added. Such modifications will be driven by software requirements and improvements to information management and the user interface. This modification would enable synchronization of existing PIER data, so that time of user entry and data quality control is minimized. Additionally, two new information fields will be added that are required to better resolve two existing data fields, while one field will be eliminated. Such revisions will be reflected on both the Excel-based forms and the webform.

Affected Public: Academic and not-for-profit institutions; individuals or households; business or other for-profit organizations; State, Local, or Tribal government.

Frequency: On occasion.

Respondent's Obligation: Required to Obtain or Retain Benefits.

Legal Authority: Sea Grant legislation, 33 U.S.C. 1121-1131.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0362.

Sheleen Dumas,
Department PRA Clearance Officer, Office of the Chief Information Officer, Commerce Department.

[FR Doc. 2021-02085 Filed 1-29-21; 8:45 am]

BILLING CODE 3510-KA-P